DEPARTMENT OF TRANSPORTATION

Federal Aviation Administration

14 CFR Part 39

[Docket No. FAA-2011-0311; Directorate Identifier 2010-NM-232-AD; Amendment 39-16668; AD 2011-09-06]

RIN 2120-AA64

Airworthiness Directives; Airbus Model A330-200 and -300 Series Airplanes, and Model A340-200 and -300 Series Airplanes

AGENCY: Federal Aviation Administration (FAA), Department of Transportation (DOT).

ACTION: Final rule; request for comments.

SUMMARY: We are superseding an existing airworthiness directive (AD) for all Model A330 and A340 series airplanes. This AD results from mandatory continuing airworthiness information (MCAI) originated by an aviation authority of another country to identify and correct an unsafe condition on an aviation product. The MCAI describes the unsafe condition as:

At the end of an escape slide deployment test performed on the left-hand forward pax [passenger]/crew door of an A330 aeroplane, the girt bar attaching the escape slide to the fuselage was found not in a locked position and detached from the aeroplane.

* * * * *

This condition, if not corrected, could result in the slide detaching from the door after being inflated which, during an emergency, would impair the safe evacuation of occupants, possibly resulting in personal injuries.

* * * * *

This AD requires actions that are intended to address the unsafe condition described in the MCAI.

DATES: This AD becomes effective May 5, 2011.

The Director of the Federal Register previously approved the incorporation by reference of certain documents listed in the AD as of March 19, 2002 (67 FR 6370, February 12, 2002).

We must receive comments on this AD by June 6, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

On January 31, 2002, we issued AD 2002-02-07, Amendment 39-12635 (67 FR 6370, February 12, 2002). That AD required actions intended to address an unsafe condition on all Model A330 and A340 series airplanes.

Since we issued AD 2002-02-07, Airbus has received certification on two new models: Model A330-223F and -243F airplanes. We are issuing this AD to include them in the requirements of that earlier AD. The European Aviation Safety Agency (EASA), which is the Technical Agent for the Member States of the European Community, has issued EASA Airworthiness Directive 2010-0135, dated July 5, 2010 (referred to after this as “the MCAI”), to correct an unsafe condition for the specified products. The MCAI states:

At the end of an escape slide deployment test performed on the left-hand forward pax [passenger]/crew door of an A330 aeroplane, the girt bar attaching the escape slide to the fuselage was found not in a locked position and detached from the aeroplane. The investigation has shown that a component of the slide release mechanism (slider) was found unserviceable (spring function inoperative due to corrosion or missing).

This condition, if not corrected, could result in the slide detaching from the door after being inflated which, during an emergency, would impair the safe evacuation of occupants, possibly resulting in personal injuries.

DGAC [Direction Générale de l'Aviation Civile] AD F-2001-053R1 and DGAC AD F-2001-052R2 required the Functional check and lubrication of door girt bar slider and the associated corrective actions.

This [EASA] AD, which supersedes DGAC AD F-2001-053R1 and DGAC AD F-2001-052R2 retaining their requirements, is issued to extend the applicability to the newly certified models A330-223F and A330-243F, and to clarify the actions required by the superseded AD.

The required actions include repetitive detailed inspection and operational checks of the spring function of the emergency exit door slider mechanism, and applying corrosion inhibitor. Corrective actions include repairing or replacing the slider with a new part. You may obtain further information by examining the MCAI in the AD docket.

Changes to the AD

We have revised the applicability of this AD to coordinate with the applicability of the EASA airworthiness directive by specifying the model designations as identified in the U.S. Type Certificate Data Sheets. Model A340-541 and -642 airplanes that were included in the prior FAA AD are not included in this AD, because we have determined that those models are not affected by the identified unsafe condition.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-0311; Directorate Identifier 2010-NM-232-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under the DOT Regulatory Policies and Procedures (44 FR 11034, February 26, 1979); and

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-12635 (67 FR 6370, February 12, 2002) and adding the following new AD:

2011-09-06 Airbus: Amendment 39-16668. Docket No. FAA-2011-0311; Directorate Identifier 2010-NM-232-AD.

Effective Date

(a) This airworthiness directive (AD) becomes effective May 5, 2011.

Affected ADs

(b) This AD supersedes AD 2002-02-07, Amendment 39-12635.

Applicability

(c) This AD applies to Airbus Model A330-201, -202, -203, -223, -223F, -243, -243F, -301, -302, -303, -321, -322, -323, -341, -342, and -343 airplanes, and Model A340-211, -212, -213, -311, -312, and -313 airplanes; certificated in any category; all manufacturer serial numbers.

Subject

(d) Air Transport Association (ATA) of America Code 52: Doors.

Reason

(e) The mandatory continued airworthiness information (MCAI) states:

At the end of an escape slide deployment test performed on the left-hand forward pax [passenger]/crew door of an A330 aeroplane, the girt bar attaching the escape slide to the fuselage was found not in a locked position and detached from the aeroplane.

* * * * *

This condition, if not corrected, could result in the slide detaching from the door after being inflated which, during an emergency, would impair the safe evacuation of occupants, possibly resulting in personal injuries.

* * * * *

Compliance

(f) You are responsible for having the actions required by this AD performed within the compliance times specified, unless the actions have already been done.

Restatement of Requirements of AD 2002-02-07

Inspection

(g) For all airplanes except Model A330-223F and -243F airplanes: Within 18 months since date of manufacture, or within 550 flight hours after March 19, 2002 (the effective date of AD 2002-02-07), whichever occurs later: Perform a detailed inspection and an operational check of the spring function of the emergency exit door slider mechanism, in accordance with Airbus All Operators Telex (AOT) A330-52A3063 (for Model A330 series airplanes) or A340-52A4075 (for Model A340 series airplanes), as applicable, both Revision 01, both dated January 3, 2001.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If all sliders lock properly: Before further flight, apply corrosion inhibitor to the sliders, in accordance with Airbus AOT A330-52A3063 (for Model A330 series airplanes) or A340-52A4075 (for Model A340 series airplanes), as applicable, both Revision 01, both dated January 3, 2001. Thereafter, repeat the inspection and operational check at least every 18 months.

(2) If any slider does not lock properly: Before further flight, repair the slider or replace it with a new part, and apply corrosion inhibitor to the sliders; in accordance with Airbus AOT A330-52A3063 (for Model A330 series airplanes) or A340-52A4075 (for Model A340 series airplanes), as applicable, both Revision 01, both dated January 3, 2001. Thereafter, repeat the inspection and operational check at least every 18 months.

New Requirements of This AD

Inspection

(h) For Model A330-223F and -243F airplanes: Within 18 months since date of manufacture, or within 550 flight hours after the effective date of this AD, whichever occurs later: Perform a detailed inspection and an operational check of the spring function of the emergency exit door slider mechanism, in accordance with Airbus AOT A330-52A3063, Revision 01, dated January 3, 2001.

(1) If all sliders lock properly: Before further flight, apply corrosion inhibitor to the sliders, in accordance with Airbus AOT A330-52A3063, Revision 01, dated January 3, 2001. Thereafter, repeat the inspection and operational check at least every 18 months.

(2) If any slider does not lock properly: Before further flight, repair the slider or replace it with a new part, and apply corrosion inhibitor to the sliders; in accordance with Airbus AOT A330-52A3063, Revision 01, dated January 3, 2001. Thereafter, repeat the inspection and operational check at least every 18 months.

FAA AD Differences

Note 2: This AD differs from the MCAI and/or service information as follows: No differences.

Other FAA AD Provisions

(i) The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue, SW., Renton, Washington 98057-3356; telephone (425) 227-1138; fax (425) 227-1149. Information may be e-mailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to Mandatory Continuing Airworthiness Information (MCAI) European Aviation Safety Agency (EASA) Airworthiness Directive 2010-0135, dated July 5, 2010; and Airbus AOTs A330-52A3063 and A340-52A4075, both Revision 01, both dated January 3, 2001; for related information.

Material Incorporated by Reference

(k) You must use Airbus All Operators Telex A330-52A3063, Revision 01, dated January 3, 2001; or Airbus All Operators Telex A340-52A4075, Revision 01, dated January 3, 2001; as applicable; to do the actions required by this AD, unless the AD specifies otherwise.

(1) The Director of the Federal Register previously approved the incorporation by reference of these documents on March 19, 2002 (67 FR 6370, February 12, 2002).

(2) For service information identified in this AD, contact Airbus SAS—Airworthiness Office—EAL, 1 Rond Point Maurice Bellonte, 31707 Blagnac Cedex, France; telephone +33 5 61 93 36 96; fax +33 5 61 93 45 80; e-mail airworthiness.A330-A340@airbus.com; Internet http://www.airbus.com.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on April 12, 2011.
Ali Bahrami,
Manager, Transport Airplane Directorate, Aircraft Certification Service.

[FR Doc. 2011-9278 Filed 4-19-11; 8:45 am]

BILLING CODE 4910-13-P